DEPARTMENT OF THE TREASURY

Internal Revenue Service

26 CFR Part 1

[REG-126100-00]

RIN 1545-AY62

Guidance on Reporting of Deposit Interest Paid to Nonresident Aliens; Hearing

AGENCY: Internal Revenue Service (IRS), Treasury.

ACTION: Change of date of public hearing; reopening period to submit outlines of oral comments; reopening public comment period.

SUMMARY: This document changes the date of the public hearing on the proposed regulations under section 6049 that provide guidance on the reporting requirements for interest on deposits maintained at the U.S. office of certain financial institutions and paid to nonresident alien individuals. It also reopens the period to submit public comments and outlines of oral comments.

DATES: The public hearing will be held June 21, 2001, beginning at 10 a.m. Additional public comments and outlines of oral comments must be received by May 31, 2001.

ADDRESSES: The public hearing will be held in the Auditorium, Internal Revenue Building, 1111 Constitution Avenue, NW., Washington, DC. Send submissions to: Regulations Unit CC (REG-126100-00), room 5226, Internal Revenue Service, POB 7604, Ben Franklin Station, Washington, DC 20044. Submissions may be hand delivered between the hours of 8 a.m. and 5 p.m. to: Regulations Unit CC (REG-126100-00), Courier's Desk, Internal Revenue Service, 1111 Constitution Avenue NW., Washington, DC. Alternatively, taxpayers may submit outlines of oral comments electronically directly to the IRS Internet site at http;//www.irs.gov/tax_regs/reglist.html.

FOR FURTHER INFORMATION CONTACT: Concerning the regulations, Kate Hwa, (202) 622-3840; concerning submission, LaNita Van Dyke, (202) 622-7190 (not a toll-free number).

SUPPLEMENTARY INFORMATION:

Background

A notice of proposed rulemaking and notice of public hearing, appearing in the Federal Register on Wednesday, January 17, 2001 (66 FR 3925), announced that a public hearing on the proposed regulations under section 6049, providing guidance on the reporting requirements for interest on deposits maintained at the U.S. office of certain financial institutions and paid to nonresident alien individuals would be held on March 21, 2001, in Room 4718, Internal Revenue Building, 1111 Constitution Avenue, NW., Washington, DC. Subsequently, the date of the public hearing has changed to June 21, 2001, at 10 a.m. in the Auditorium. Public comments and outlines of oral comments must be received by May 31, 2001.

Cynthia Grigsby,
Chief, Regulations Unit, Office of Special Counsel, (Modernization & Strategic Planning).

[FR Doc. 01-7162 Filed 3-19-01; 2:49 pm]

BILLING CODE 4830-01-p